DEPARTMENT OF COMMERCE

National Oceanic and Atmospheric Administration

[I.D. 072605A]

Fisheries of the Caribbean, Gulf of Mexico, and South Atlantic; Snapper-Grouper Fishery Off the Southern Atlantic States and Coral and Coral Reefs Fishery in the South Atlantic; Exempted Fishing Permit

AGENCY: National Marine Fisheries Service (NMFS), National Oceanic and Atmospheric Administration (NOAA), Commerce.

ACTION: Notice; receipt of an application for an exempted fishing permit; request for comments.

SUMMARY: NMFS announces the receipt of an application for an exempted fishing permit (EFP) from Jason T. Crichton on behalf of the South Carolina Aquarium. If granted, the EFP would authorize the applicant, with certain conditions, to collect numerous species of fish and invertebrates from Federal waters off the coast of South Carolina from 2005 to 2007. The collected species would be displayed at the South Carolina Aquarium in Charleston, SC.

DATES: Comments must be received no later than 5 p.m., eastern standard time, on August 16, 2005.

ADDRESSES: Comments on the application may be sent via fax to 727-824-5308 or mailed to: Julie Weeder, Southeast Regional Office, NMFS, 263 13th Avenue South, St. Petersburg, FL 33701. Comments may be submitted by e-mail to sc.aquarium@noaa.gov. Include in the subject line of the e-mail document the following text: Comment on South Carolina Aquariums EFP Application. The application and related documents are available for review upon written request to the NMFS address above or to julie.weeder@noaa.gov.

FOR FURTHER INFORMATION CONTACT: Julie Weeder, 727-824-5305; fax 727-824-5308; e-mail: julie.weeder@noaa.gov.

SUPPLEMENTARY INFORMATION: The EFP is requested under the authority of the Magnuson-Stevens Fishery Conservation and Management Act (16 U.S.C. 1801 et seq.), and regulations at 50 CFR 600.745(b) concerning exempted fishing.

According to the applicant, the South Carolina Aquarium is a not-for-profit, educational and conservation based organization that displays specimens indigenous to South Carolina. The proposed collection for public display involves activities otherwise prohibited by regulations implementing the Fishery Management Plans (FMPs) for the Snapper-Grouper Fishery of the South Atlantic Region, Shrimp Fishery of the South Atlantic Region, Atlantic Coast Red Drum, Spiny Lobster in the Gulf of Mexico and South Atlantic, and Coastal Migratory Pelagic Resources in Gulf of Mexico and South Atlantic.

The applicant requires authorization to harvest and possess up to 50 spiny lobster, 750 penaeid shrimp, 6 wahoo, 50 pompano, 25 porkfish, 25 sheepshead, 24 triggerfish (Balistes spp.), 125 porgies (Calamus spp.), 6 ocean triggerfish, 75 jacks (Caranx spp.), 50 sea basses (Centropristis spp.), 75 spadefish, 85 groupers (Epinephelus spp.), 115 grunts (Haemulon spp.), 3 puddingwife, 150 snappers (Lutjanus spp.), 25 sand tilefish, 100 groupers (Myctoperca spp.), 12 yellowtail snapper, 25 red porgy, 12 cobia, 25 vermilion snapper, 25 red drum, 25 cero, and 100 jacks (Seriola spp.). Collections would occur in Federal waters off the coast of South Carolina between August 1, 2005 and July 31, 2007. Specimens would be collected using the following gear and methods: hand nets, dip nets, vertical hook-and-line and trolling with rod and reel and natural and artificial bait, sea bass pots, spiny lobster traps, and golden crab traps.

NMFS finds that this application warrants further consideration, based on a preliminary review, and intends to issue an EFP. Possible conditions the agency may impose on this permit, if it is indeed granted, include but are not limited to: Reduction in the number of specimens of any or all species to be collected; restrictions on the size of fish to be collected; prohibition of the harvest of any fish with visible external tags; and specification of locations, dates, and/or seasons allowed for collection of any or all species. A final decision on issuance of the EFP will depend on a NMFS review of public comments received on the application, conclusions of environmental analyses conducted pursuant to the National Environmental Policy Act, and consultations with South Carolina, the South Atlantic Fishery Management Council, and the U.S. Coast Guard. The applicant requests a 24-month effective period for the EFP.

Authority: Authority: 16 U.S.C. 1801 et seq.

Dated: July 26, 2005.
Alan D. Risenhoover
Acting Director, Office of Sustainable Fisheries, National Marine Fisheries Service.

[FR Doc. E5-4080 Filed 7-29-E5; 8:45 am]

BILLING CODE 3510-22-S